DEPARTMENT OF HEALTH AND HUMAN SERVICES

National Institutes of Health

Center for Scientific Review; Cancellation of Meeting

Notice is hereby given of the cancellation of the Center for Scientific Review Special Emphasis Panel, June 19, 2007, 1 p.m. to June 19, 2007, 1:30 p.m., The Fairmont Washington, DC, 2401 M Street, NW., Washington, DC 20037 which was published in the Federal Register on May 21, 2007, 72 FR 28515-28517.

The meeting was cancelled due to administration problems.

Dated: May 22, 2007.
Jennifer Spaeth,
Director, Office of Federal Advisory Committee Policy.

[FR Doc. 07-2669 Filed 5-29-07; 8:45 am]

BILLING CODE 4140-01-M